FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011638-003.

Title: Sea Girt Chassis Cooperative, L.L.C. Limited Liability Company Agreement.

Parties: China Ocean Shipping Container Lines Co., Ltd., CMA CGM, S.A.; Compania Sud Americana de Vapores, S.A. (CSAV); and Mediterranean Shipping Company.

Filing Party: Wayne Rhode, Esq.; Sher & Blackwell; 1850 M Street, NW.; Suite 900; Washington, DC 20036.

Synopsis: The amendment (1) substitutes COSCO Container Lines (Hong Kong) Co., Limited for China Ocean Shipping Container Lines as a party to the Agreement, (2) reflects the resignation of CSAV from the Agreement effective April 1, 2007, and (3) changes the contact information and address of CMA CGM.

Agreement No.: 011977-001.

Title: COSCON/WHL Space Charter Agreement.

Parties: COSCO Container Lines Company, Limited (COSCON) and Wan Hai Lines Ltd.

Filing Party: Robert B. Yoshitomi, Esq.; Nixon Peabody LLP; 2040 Main Street, Suite 850; Irvine, CA 92614.

Synopsis: The amendment substitutes COSCO Container Lines (Hong Kong) Limited for COSCON as a party to the agreement.

By Order of the Federal Maritime Commission.
Dated: February 9, 2007.
Bryant L. VanBrakle,
Secretary.

[FR Doc. E7-2536 Filed 2-13-07; 8:45 am]

BILLING CODE 6730-01-P